DEPARTMENT OF DEFENSE

Office of the Secretary

[Transmittal No. 22-53]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-53 with attached Policy Justification and Sensitivity of Technology.

Dated: June 10, 2024.
Aaron T. Siegel,
Alternate OSD Federal Register Liaison Officer, Department of Defense.

BILLING CODE 6001-FR-P

BILLING CODE 6001-FR-C

Tranmittal No. 22-53

Notice of Proposed Issuance of Letter of Offer Pursuant to Section 36(b)(1) of the Arms Export Control Act, as amended

(i) Prospective Purchaser: Government of Germany.

(ii) Total Estimated Value:

Major Defense Equipment * | $5.38 billion
Other | $3.02 billion
TOTAL | $8.40 billion

(iii) Description and Quantity or Quantities of Articles or Services under Consideration for Purchase:

Major Defense Equipment (MDE):

Thirty-five (35) F-35 Joint Strike Fighter Conventional Take Off and Landing (CTOL) Aircraft

Thirty-seven (37) Pratt & Whitney F135-PW-100 Engines (35 installed, 2 spares)

One hundred five (105) AIM-120C-8 Advanced Medium Range Air-to-Air Missiles (AMRAAM)

Four (4) AIM-120C-8 AMRAAM Guidance Sections

Seventy-five (75) AGM-158B/B2 Joint Air-to-Surface Standoff Missiles-Extended Range (JASSM-ER)

Two (2) AGM-158 Inert JASSMs with Test Instrumentation Kits (TIK)

Two (2) AGM-158 JASSM Separation Test Vehicles (STV)

Three hundred forty-four (344) GBU-53 Small Diameter Bombs (SDB-II)

Three (3) GBU-53 SDB-II Guided Test Vehicles (GTV)

Eight (8) GBU-53 SDB-II Captive Carry Reliability Trainers (CCRT)

One hundred sixty-two (162) BLU-109 2000LB Hardened Penetrator Bombs for GBU-31

Two hundred sixty-four (264) MK-82 500LB General Purpose (GP) Bombs for GBU-54

Six (6) MK-82 Inert Filled GP Bombs

Thirty (30) BLU-109 Inert 2000LB Hardened Penetrator Bombs

One hundred eighty (180) KMU-557 Joint Direct-Attack Munition (JDAM) Tail Kits for GBU-31

Two hundred forty-six (246) KMU-572 JDAM Tail Kits for GBU-54

Seventy-five (75) AIM-9X Block II+ Tactical Sidewinder Missiles

Thirty (30) AIM-9X Block II Sidewinder Captive Air Training Missiles (CATM)

Fifteen (15) Tactical AIM-9X Block II+ Sidewinder Guidance Control Units

Five (5) AIM-9X Block II Sidewinder CATM Guidance Units

Non-MDE:

Also included are AIM-120 control sections, propulsion sections, telemetry systems, warheads, and containers; AIM-120 CATMs; AIM-9 Active Optical Target Detectors and containers; FMU-139 joint programmable fuzes; DSU-38 Laser-Illuminated Target Detectors for GBU-54; AN/PYQ-10 Simple Key Loaders; Common Munitions Built-in-Test Reprogramming Equipment (CMBRE) and ADU-891/E Adapter Group Computer Test Sets; KGV-135A embedded secure communications devices; Cartridge Actuated Devices/Propellant Actuated Devices (CAD/PAD); impulse cartridges, chaff, and flares; Full Mission Simulators and system trainers; training missiles and components; electronic warfare systems and Reprogramming Lab support; logistics management and support systems; threat detection, tracking, and targeting systems; Contractor Logistics Support (CLS); classified software and software development, delivery and integration support; transportation, ferry, and refueling support; weapons containers; aircraft and munitions support and support equipment; integration and test support and equipment; aircraft engine component improvement program (CIP) support; secure communications, precision navigation, and cryptographic systems and equipment; Identification Friend or Foe (IFF) equipment; spare and repair parts, consumables, and accessories, and repair and return support; minor modifications, maintenance, and maintenance support; personnel training and training equipment; classified and unclassified publications and technical documents; warranties; and U.S. Government and engineering, technical, and logistics support services, studies and surveys, as well as other related elements of logistical and program support.

(iv) Military Department: Air Force (GY-D-SAB, GY-D-YAD, GY-D-YAE, GY-D-YAH, GY-D-YAI); and Navy (GY-P-PAG, GY-P-ALE, GY-P-PAH)

(v) Prior Related Cases, if any: None

(vi) Sales Commission, Fee, etc., Paid, Offered, or Agreed to be Paid: None known at this time

(vii) Sensitivity of Technology Contained in the Defense Article or Defense Services Proposed to be Sold: See Attached Annex.

(viii) Date Report Delivered to Congress: July 28, 2022

* As defined in Section 47(6) of the Arms Export Control Act.

POLICY JUSTIFICATION

Germany—F-35 Aircraft and Munitions

The Government of Germany has requested to buy thirty-five (35) F-35 Joint Strike Fighter Conventional Take Off and Landing (CTOL) aircraft; thirty-seven (37) Pratt & Whitney F135-PW-100 engines (35 installed, 2 spares); one hundred five (105) AIM-120C-8 Advanced Medium Range Air-to-Air Missiles (AMRAAM); four (4) AIM-120C-8 AMRAAM Guidance Sections; seventy-five (75) AGM-158B/B2 Joint Air-to-Surface Standoff Missiles-Extended Range (JASSM-ER); two (2) AGM-158 Inert JASSMs with Test Instrumentation Kits (TIK); two (2) AGM-158 JASSM Separation Test Vehicles (STV); three hundred forty-four (344) GBU-53 Small Diameter Bombs (SDB-II); three (3) GBU-53 SDB-II Guided Test Vehicles (GTV); eight (8) GBU-53 SDB-II Captive Carry Reliability Trainers (CCRT); one hundred sixty-two (162) BLU-109 2000LB Hardened Penetrator Bombs for GBU-31; two hundred sixty-four (264) MK-82 500LB General Purpose (GP) Bombs for GBU-54; six (6) MK-82 Inert Filled GP Bombs; thirty (30) BLU-109 Inert 2000LB Hardened Penetrator Bombs; one hundred eighty (180) KMU-557 Joint Direct-Attack Munition (JDAM) Tail Kits for GBU-31; two hundred forty-six (246) KMU-572 JDAM Tail Kits for GBU-54; seventy-five (75) AIM-9X Block II+ Tactical Sidewinder Missiles; thirty (30) AIM-9X Block II Sidewinder Captive Air Training Missiles (CATM); fifteen (15) Tactical AIM-9X Block II+ Sidewinder Guidance Control Units; and five (5) AIM-9X Block II Sidewinder CATM Guidance Units. Also included are AIM-120 control sections, propulsion sections, telemetry systems, warheads, and containers; AIM-120 CATMs; AIM-9 Active Optical Target Detectors and containers; FMU-139 joint programmable fuzes; DSU-38 Laser-Illuminated Target Detectors for GBU-54; AN/PYQ-10 Simple Key Loaders; Common Munitions Built-in-Test Reprogramming Equipment (CMBRE) and ADU-891/E Adapter Group Computer Test Sets; KGV-135A embedded secure communications devices; Cartridge Actuated Devices/Propellant Actuated Devices (CAD/PAD); impulse cartridges, chaff, and flares; Full Mission Simulators and system trainers; training missiles and components; electronic warfare systems and Reprogramming Lab support; logistics management and support systems; threat detection, tracking, and targeting systems; Contractor Logistics Support (CLS); classified software and software development, delivery and integration support; transportation, ferry, and refueling support; weapons containers; aircraft and munitions support and support equipment; integration and test support and equipment; aircraft engine component improvement program (CIP) support; secure communications, precision navigation, and cryptographic systems and equipment; Identification Friend or Foe (IFF) equipment; spare and repair parts, consumables, and accessories, and repair and return support; minor modifications, maintenance, and maintenance support; personnel training and training equipment; classified and unclassified publications and technical documents; warranties; and U.S. Government and engineering, technical, and logistics support services, studies and surveys, as well as other related elements of logistical and program support. The estimated total cost is $8.4 billion.

This proposed sale will support the foreign policy and national security of the United States by improving the security of a NATO ally that is an important force for political and economic stability in Europe.

The proposed sale will improve Germany's capability to meet current and future threats by providing a suitable replacement for Germany's retiring Tornado aircraft fleet in support of NATO's nuclear sharing mission, the centerpiece for deterrence in Europe. Germany will have no difficulty absorbing this equipment and services into its armed forces.

The proposed sale of this equipment and support will not alter the basic military balance in the region.

The principal contractors will be Lockheed Martin Aeronautics Company, Fort Worth, TX; Pratt & Whitney Military Engines, East Hartford, CT; The Boeing Company, St. Charles, MO; and Raytheon Missiles and Defense, Tucson, AZ. The purchaser typically requests offsets. Any offset agreement will be defined in negotiations between the purchaser and the contractor.

Implementation of this proposed sale will not require the assignment of any additional U.S. Government or contractor representatives to Germany.

There will be no adverse impact on U.S. defense readiness as a result of this proposed sale.

Transmittal No. 22-53

Notice of Proposed Issuance of Letter of Offer Pursuant to Section 36(b)(1) of the Arms Export Control Act

Annex

Item No. vii

(vii) Sensitivity of Technology:

1. The F-35A Conventional Take Off and Landing (CTOL) aircraft is a single seat, single engine, all-weather, stealth, fifth-generation, multirole aircraft. It contains sensitive technology including the low observable airframe/outer mold line, the Pratt and Whitney F135 engine, AN/APG-81 radar, an integrated core processor central computer, a mission systems/electronic warfare suite, a multiple sensor suite, technical data/documentation and associated software. Sensitive elements of the F-35A are also included in operational flight and maintenance trainers. Sensitive and classified elements of the F-35A CTOL aircraft include hardware, accessories, components, and associated software for the following major subsystems:

a. The Pratt and Whitney F135 engine is a single 40,000-lb thrust class engine designed for the F-35 and assures highly reliable, affordable performance. The engine is designed to be utilized in all F-35 variants, providing unmatched commonality and supportability throughout the worldwide base of F-35 users.

b. The AN/APG-81 Active Electronically Scanned Array (AESA) is a high processing power/high transmission power electronic array capable of detecting air and ground targets from a greater distance than mechanically scanned array radars. It also contains a Synthetic Aperture Radar (SAR), which creates high-resolution ground maps and provides weather data to the pilot, and provides air and ground tracks to the mission system, which uses it as a component to fuse sensor data.

c. The Electro-Optical Targeting System (EOTS) provides long-range detection and tracking as well as an Infrared Search and Track (IRST) and Forward-Looking Infrared (FLIR) capability for precision tracking, weapons delivery and Bomb Damage Assessment (BDA). The EOTS replaces multiple separate internal or podded systems typically found on legacy aircraft.

d. The Electro-Optical Distributed Aperture System (EODAS) provides the pilot with full spherical coverage for air-to- air and air-to-ground threat awareness, day/night vision enhancements, a fire control capability and precision tracking of wingmen/friendly aircraft. The EODAS provides data directly to the pilot's helmet as well as the mission system.

e. The F-35 Electronic Warfare (EW) system is a reprogrammable, integrated system that provides radar warning and electronic support measures (ESM) along with a fully integrated countermeasures (CM) system. The EW system is the primary subsystem used to enhance situational awareness, targeting support and self-defense through the search, intercept, location and identification of in-band emitters and to automatically counter IR and RF threats.

f. The F-35 Command, Control, Communications, Computers and Intelligence/Communications, Navigation, and Identification (C4I/CNI) system provides the pilot with unmatched connectivity to flight members, coalition forces and the battlefield. It is an integrated subsystem designed to provide a broad spectrum of secure, anti-jam voice and data communications, precision radio navigation and landing capability, self-identification, beyond visual range target identification and connectivity to off-board sources of information. It also includes an inertial navigation and Global Positioning System (GPS) for precise location information. The functionality is tightly integrated within the mission system to enhance efficiency.

g. The F-35 C4I/CNI system includes two data links: the Multi-Function Advanced Data Link (MADL) and Link 16. The MADL is designed specifically for the F-35 and allows for stealthy communications between F-35s. Link 16 is an advanced Command, Control, Communications, and Intelligence (C3I) system incorporating jam-resistant, digital communication links for exchange of near real-time tactical information, including both data and voice, among air, ground, and sea elements. It provides the warfighter key theater functions such as surveillance, identification, air control, weapons engagement coordination, and direction for all services and allied forces. Link-16 equipment allows the F-35 to communicate with legacy aircraft using widely-distributed J-series message protocols.

h. The F-35 Autonomic Logistics Global Sustainment (ALGS) provides a fully integrated logistics management solution. ALGS integrates a number of functional areas, including supply chain management, repair, support equipment, engine support and training. The ALGS infrastructure employs a state-of-the-art information system that provides real-time, decision-worthy information for sustainment decisions by flight line personnel. Prognostic health monitoring technology is integrated with the air system and is crucial to predictive maintenance of vital components.

i. The F-35 Autonomic Logistics Information System (ALIS) provides an intelligent information infrastructure that binds all the key concepts of ALGS into an effective support system. ALIS establishes the appropriate interfaces among the F-35 Air Vehicle, the warfighter, the training system, government Information Technology (IT) systems, and supporting commercial enterprise systems. Additionally, ALIS provides a comprehensive tool for data collection and analysis, decision support and action tracking.

j. The F-35 Training System includes several training devices to provide integrated training for pilots and maintainers. The pilot training devices include a Full Mission Simulator (FMS) and Deployable Mission Rehearsal Trainer (DMRT). The maintenance training devices include an Aircraft Systems Maintenance Trainer (ASMT), Ejection System Maintenance Trainer (ESMT), Outer Mold Line (OML) Lab, Flexible Linear Shaped Charge (FLSC) Trainer, F135 Engine Module Trainer and Weapons Loading Trainer (WLT). The F-35 Training System can be integrated, where both pilots and maintainers learn in the same Integrated Training Center (ITC). Alternatively, the pilots and maintainers can train in separate facilities (Pilot Training Center and Maintenance Training Center).

k. Other subsystems, features, and capabilities include the F-35's low observable air frame, Integrated Core Processor (ICP) Central Computer, Helmet Mounted Display System (HMDS), Pilot Life Support System (PLSS), Off-Board Mission Support (OMS) System, and publications/maintenance manuals. The HMDS provides a fully sunlight readable, biocular display presentation of aircraft information projected onto the pilot's helmet visor. The use of a night vision camera integrated into the helmet eliminates the need for separate Night Vision Goggles. The PLSS provides a measure of Pilot Chemical, Biological, and Radiological Protection through use of an On-Board Oxygen Generating System (OBOGS); and an escape system that provides additional protection to the pilot. OBOGS takes the Power and Thermal Management System (PTMS) air and enriches it by removing gases (mainly nitrogen) by adsorption, thereby increasing the concentration of oxygen in the product gas and supplying breathable air to the pilot. The OMS provides a mission planning, mission briefing, and a maintenance/intelligence/tactical debriefing platform for the F-35.

2. The Electronic Warfare Reprogramming Lab is used by U.S. Government engineers in the reprogramming and creation of shareable Mission Data Files for foreign F-35 customers.

3. The AIM-120C-8 Advanced Medium Range Air-to-Air Missile (AMRAAM) is a supersonic, air-launched, aerial intercept, guided missile featuring digital technology and micro-miniature solid-state electronics. AMRAAM capabilities include look-down/shoot-down, multiple launches against multiple targets, resistance to electronic countermeasures, and interception of high- and low-flying and maneuvering targets. State-of-the-art technology is used in the missile to provide it with beyond-visual-range capability. This potential sale will include Captive Air Training Missiles (CATM) as well as AMRAAM guidance section, propulsion section, control section, telemetry system, and warhead spares.

4. The AGM-158B/B-2 Joint Air-to-Surface Standoff Missile (JASSM) with Extended Range (ER) is a low-observable, highly-survivable, subsonic cruise missile designed to penetrate next-generation air defense systems en-route to target. The JASSM-ER is designed to kill hard, medium-hardened, soft, and area-type targets. A turbo-fan engine and reconfigured fuel tanks provide added capacity. The extended range over the baseline was obtained by going from a turbo jet to a turbo-fan engine and by reconfiguring the fuel tanks for added capacity. This potential sale will include inert missiles with test instrumentation kits, separation test vehicles, and training missiles.

The AGM-158B-2 system capabilities include all the capabilities of the AGM-158B. The AGM-158B-2 configuration will have different internal components to address multiple obsolescence issues as well as subcomponent updates to position for M-Code and other potential upgrades.

5. The GBU-53 Small Diameter Bomb-Increment II (SDB-II) is a 250-lb class precision-guided, semiautonomous, conventional, air-to-ground munition used to defeat moving targets through adverse weather from standoff range. The SDB-II has deployable wings and fins and uses GPS/INS guidance, network-enabled datalink (Link-16 and UHF), and a multi-mode seeker (millimeter wave radar, imaging infrared, semi-active laser) to autonomously search, acquire, track, and defeat targets a variety of moving or stationary targets, at standoff range or close in, in a variety of attack modes. The SDB-II employs a multi-effects warhead (blast, fragmentation, and shaped-charge) for maximum lethality against armored and soft targets. The SDB II weapon system consists of the tactical all-up round (AUR) weapon, a 4-place common carriage system, and mission planning system munitions application program (MAP).

a. SDB-II Guided Test Vehicles (GTV) is a live or inert SDB-II configuration used for land- or sea-range-based testing of the SDB-II weapon system.

b. SDB-II Captive Carry Reliability Test (CCRT) vehicles are an inert SDB-II configuration used for any purpose where an inert round without telemetry or termination capability would be useful, but primarily for reliability data collection during carriage.

6. The Joint Direct-Attack Munition (JDAM) is a guidance set which converts existing unguided bombs (MK-82, MK-83, MK-84, BLU-109, BLU-110, BLU-111, BLU-117, BLU-126 (Navy) or BLU-129 warhead) into an accurate, adverse weather “smart” munition. The Guidance Set consists of a Tail Kit, which contains the Inertial Navigation System (INS) and a GPS, a set of Aerosurfaces and an umbilical cover, which allows the JDAM to improve the accuracy of unguided, General Purpose (GP) bombs. The JDAM weapon can be delivered from modest standoff ranges at high or low altitudes against a variety of land and surface targets during the day or night. The JDAM is capable of receiving target coordinates via preplanned mission data from the delivery aircraft, by onboard aircraft sensors (i.e., FLIR, Radar, etc.) during captive carry, or from a third-party source via manual or automated aircrew cockpit entry.

a. GBU-31 is a 2,000 pound JDAM. The GBU-31 consists of the KMU-557 tail kit and the BLU-109 bomb body to make the GBU-31v3.

b. The GBU-54 Laser Joint Direct Attack Munition (LJDAM) is a 500 pound JDAM which incorporates all the capabilities of the JDAM guidance tail kit and adds a precision laser guidance set. The LJDAM gives the weapon system an optional semi-active laser guidance in addition to the INS/GPS guidance. This provides the optional capability to strike moving targets. The GBU-54 consists of a DSU-38 laser guidance set, KMU-572 bomb body-specific tail kit, and MK-82 bomb body.

7. The MK-82 GP bomb is a 500 pound, free-fall, unguided, low-drag weapon. The MK-82 is designed for soft, fragment-sensitive targets and is not intended for hard targets or penetrations. The explosive filling is usually tritonal, though other compositions have sometimes been used. This potential sale will include MK-82 inerts.

8. The BLU-109/B is a 2,000 pound hard target penetration warhead designed to penetrate hardened structures before detonating. This potential sale will include BLU-109(D-1)/B inerts.

9. The FMU-139 Joint Programmable Fuze (JPF) is a multi-delay multi-arm and proximity sensor compatible with general purpose blast, frag and hardened-target penetrator weapons. The JPF settings are cockpit selectable in flight when used with numerous precision-guided weapons. It can interface with the GBU-31, GBU-32, GBU-38, and GBU-54.

10. The AIM-9X Block II and Block II+ (Plus) SIDEWINDER Missiles represent a substantial increase in missile acquisition and kinematics performance over the AIM-9M and replace the AIM- 9X Block I Missile configuration. The missiles include a high off-boresight seeker, enhanced countermeasure rejection capability, low drag/high angle of attack airframe and the ability to integrate with a helmet mounted cueing system. The software algorithms are the most sensitive portion of the AIM-9X missile. The software continues to be modified via a pre-planned product improvement (P3I) program to improve counter-countermeasure capabilities. This potential sale will include AIM-9X guidance section spares and Active Optical Target Detectors.

11. The AN/PYQ-10 Simple Key Loader is a portable, hand-held device used for securely receiving, storing, and transferring data between compatible cryptographic and communications equipment.

12. The KGV-135A is a high-speed, general purpose encryptor/decryptor module used for wide-band data encryption.

13. The Common Munitions Built-In-Test (BIT)/Reprogramming Equipment (CMBRE) is support equipment used to interface with weapon systems to initiate and report BIT results, and upload/download flight software. CMBRE supports multiple munitions platforms with a range of applications that perform preflight checks, periodic maintenance checks, loading of Operational Flight Program (OFP) data, loading of munitions mission planning data, loading of Global Positioning System (GPS) cryptographic keys, and declassification of munitions memory.

14. The highest level of classification of defense articles, components, and services included in this potential sale is SECRET.

15. If a technologically advanced adversary were to obtain knowledge of the specific hardware and software elements, the information could be used to develop countermeasures that might reduce weapon system effectiveness or be used in the development of a system with similar or advanced capabilities.

16. A determination has been made that Germany can provide substantially the same degree of protection for the sensitive technology being released as the U.S. Government. This sale is necessary in furtherance of the U.S. foreign policy and national security objectives outlined in the Policy Justification.

17. All defense articles and services listed in this transmittal have been authorized for release and export to the Government of Germany.

[FR Doc. 2024-12956 Filed 6-12-24; 8:45 am]

BILLING CODE 6001-FR-P